FEDERAL COMMUNICATIONS COMMISSION

47 CFR Part 73

[DA 05-2008; MB Docket No. 04-330; RM-11051]

Radio Broadcasting Services; Palacios, TX

AGENCY: Federal Communications Commission.

ACTION: Final rule.

SUMMARY: In response to a Notice of Proposed Rule Making, 69 FR 54614 (September 9, 2004), this Report and Order grants the proposal to allot Channel 264A to Palacios, Texas.

The coordinates for Channel 264A at Palacios, Texas are 28-36-26 North Latitude and 96-10-00 West Longitude, with a site restriction of 12.2 kilometers (7.6 miles) southeast of Palacios.

DATES: Effective August 29, 2005.

FOR FURTHER INFORMATION CONTACT: R. Barthen Gorman, Media Bureau, (202) 418-2180.

SUPPLEMENTARY INFORMATION: This is a synopsis of the Commission's Report and Order, MB Docket No. 04-328, adopted July 13, 2005, and released July 15, 2005. The full text of this Commission decision is available for inspection and copying during normal business hours in the FCC's Reference Information Center at Portals II, 445 12th Street, SW., Room CY-A257, Washington, DC 20554. The document may also be purchased from the Commission's duplicating contractor, Qualex International, Portals II, 445 12th Street, SW., Room CY-B402, Washington, DC 20554, telephone 202 863-2893. facsimile 202 863-2898, or via e-mail qualexint@aol.com. The Commission will send a copy of this Report and Order in a report to be sent to Congress and the Government Accountability Office pursuant to the Congressional Review Act, see U.S.C. 801(a)(1)(A). Channel 259A is listed at 47 CFR 202(b), FM Table of Allotments under Palacios, Texas.

We have no record that Channel 259A is currently licensed or allotted to Palacios.

Accordingly, the Report and Order deletes Channel 259A from 47 CFR 73.202(b) under Palacios.

List of Subjects in 47 CFR Part 73

Radio, Radio broadcasting.

Part 73 of title 47 of the Code of Federal Regulations is amended as follows:

PART 73—[AMENDED]

1. The authority citation for part 73 reads as follows:

Authority: 47 U.S.C. 154, 303, 334 and 336.

§ 73.202 [Amended]

2. Section 73.202(b), the Table of FM Allotments under Texas, is amended by removing Channel 259A and by adding Channel 264A at Palacios.

Federal Communications Commission.
John A. Karousos,
Assistant Chief, Audio Division, Media Bureau.

[FR Doc. 05-15130 Filed 8-2-05; 8:45 am]

BILLING CODE 6712-01-P